ENVIRONMENTAL PROTECTION AGENCY

40 CFR Part 300

[FRL-7259-4]

National Oil and Hazardous Substances Contingency Plan; National Priorities List Update

AGENCY: Environmental Protection Agency.

ACTION: Notice of Deletion for a portion of the Joslyn Manufacturing and Supply Superfund Site from the National Priorities List (NPL).

SUMMARY: The Environmental Protection Agency (EPA) announces the deletion of a portion of the Joslyn Manufacturing and Supply Superfund Site in Brooklyn Center, Minnesota from the National Priorities List (NPL). The NPL is Appendix B of 40 CFR part 300 which is the National Oil and Hazardous Substances Contingency Plan (NCP), which EPA promulgated pursuant to Section 105 of the Comprehensive Environmental Response, Compensation, and Liability Act of 1980 (CERCLA), as amended. This action is being taken by EPA because it has been determined that Responsible Parties have implemented all appropriate response actions required for this portion of the Site. Moreover, EPA has determined that remedial actions conducted at this portion of the site to date remain protective of public health, welfare, and the environment.

EFFECTIVE DATE: August 19, 2002.

FOR FURTHER INFORMATION CONTACT: Gladys Beard at (312) 886-7253, State NPL Deletion Process Manager, Superfund Division, U.S. EPA—Region V, 77 West Jackson Blvd., Chicago, IL 60604. Information on the site is available at the local information repository located at: the Minnesota Pollution Control Agency, 520 Lafayette Rd. North, St. Paul, Minnesota 55155-4194, (651) 296-6300, Monday through Friday 8:00 a.m. to 4:30. Requests for comprehensive copies of documents should be directed formally to the Regional Docket Office. The contact for the Regional Docket Office is Jan Pfundheller (H-7J), U.S. EPA, Region V, 77 W. Jackson Blvd., Chicago, IL 60604, (312) 353-5821.

SUPPLEMENTARY INFORMATION: The site to be partially deleted from the NPL is: Joslyn Manufacturing and Supply Superfund Site located in Brooklyn Center, Minnesota. A Notice of Intent to Delete for this site was published February 19, 2002 (67 FR 7326). The closing date for comments on the Notice of Intent to Delete was March 21, 2002. EPA received comments and therefore a Responsiveness Summary was prepared. The Responsiveness Summary was placed in the repository and with the Regional Docket Office.

A direct final notice of deletion was published on February 19, 2002 (67 FR 7279) which included the details of the partial deletion. While the direct final notice amendment is being removed in today's Federal Register, the details contained in the February 19, 2002 direct final deletion amendment describe the portion of the site being deleted by this notice.

The EPA identifies sites which appear to present a significant risk to public health, welfare, or the environment and it maintains the NPL as the list of those sites. Sites on the NPL may be the subject of Hazardous Substance Response Trust Fund (Fund-) financed remedial actions. Any site deleted from the NPL remains eligible for Fund-financed remedial actions in the unlikely event that conditions at the site warrant such action. Section 300.425(e)(3) of the NCP states that Fund-financed actions may be taken at sites deleted from the NPL in the unlikely event that conditions at the site warrant such action. Deletion of a site from the NPL does not affect responsible party liability or impede agency efforts to recover costs associated with response efforts.

List of Subjects in 40 CFR Part 300

Environmental Protection, Air pollution control, Chemicals, Hazardous substances, Hazardous Waste, Intergovernmental relations, Penalties, Reporting and recordkeeping requirements, Superfund, Water pollution control, Water supply.

Dated: August 6, 2002.
Bharat Mathur,
Acting Regional Administrator, U.S. EPA, Region V.

40 CFR part 300 is amended as follows:

PART 300—[AMENDED]

1. The authority citation for part 300 continues to read as follows:

Authority: 33 U.S.C. 1321(c)(2); 42 U.S.C. 9601-9657; E.O. 12777, 56 FR 54757, 3 CFR, 1991 Comp.; p. 351; E.O. 12580, 52 FR 2923, 3 CFR, 1987 Comp.; p. 193.

Appendix B [AMENDED]

2. Table 1 of Appendix B to part 300 is amended by revising the entry for “Joslyn Manufacturing and Supply Co, Brooklyn Center, Minnesota” to read as follows:

Table 1.—General Superfund Section
State | Site name | City/County | Notes ¹
* * * * * *
MN | Joslyn Manufacturing and Supply Co | Brooklyn Center | P
* * * * * *
¹ P=Sites with partial deletion(s).

* * * * *

[FR Doc. 02-20741 Filed 8-15-02; 8:45 am]

BILLING CODE 6560-50-P